DEPARTMENT OF TRANSPORTATION

Federal Aviation Administration

Aging Transport Systems Rulemaking Advisory Committee Meeting

AGENCY: Federal Aviation Administration (FAA), DOT.

ACTION: Notice of public meeting.

SUMMARY: This notice announces a public meeting of the FAA's Aging Transport Systems Rulemaking Advisory Committee (ATSRAC).

DATES: The FAA will hold the meeting on October 24 and 25, 2001, from 8:00 a.m. to 5 p.m. each day.

ADDRESSES: FAA, Bessie Coleman Center, 800 Independence Avenue, SW, Washington, DC 20591.

FOR FURTHER INFORMATION CONTACT: Shirley Stroman, Office of Rulemaking, ARM-208, FAA, 800 Independence Avenue, SW, Washington, DC 20591; telephone (202) 267-7470; fax (202) 267-5075; or e-mail shirley.stroman@faa.gov.

SUPPLEMENTARY INFORMATION: The ATSRAC will meet at the FAA headquarters in Washington, DC at the address shown under the ADDRESS heading in this notice. The meeting agenda will include the following topics:

• Enhanced Airworthiness Program for Airplane Systems (EAPAS) status report.

• ATSRAC Working Groups' coordination process.

• Status reports of ATSRAC Working Groups' activities.

• Status of previous ATSRAC recommendations.

• Engine manufacturer presentation on aircraft wiring.

The meeting is opened to the public, but attendance will be limited to the availability of meeting room space. The FAA will make the following services available if you request them by October 12, 2001:

• Teleconferencing.

• Sign and oral interpretation.

• A listening device.

Individuals using the teleconferencing service and calling from outside the Washington, DC metropolitan area will be responsible for paying long distance charges. To arrange for any of the above services, contact the person listed under the FOR FURTHER INFORMATION CONTACT heading of this notice.

The public may present written statements to the Committee at any time by providing 20 copies to the Committee's Executive Director or by bringing the copies to the meeting. Public statements will be considered if time permits.

Issued in Washington, DC, on October 2, 2001.
Brenda D. Courtney,
Acting Director, Office of Rulemaking.

[FR Doc. 01-25269 Filed 10-05-01; 8:45 am]

BILLING CODE 4910-13-M